DEPARTMENT OF AGRICULTURE

Grain Inspection, Packers and Stockyards Administration

Designation for the Aberdeen, SD; Decatur, IL; Hastings, NE; Fulton, IL; the State of Missouri, and the State of South Carolina Areas

AGENCY: Grain Inspection, Packers and Stockyards Administration, USDA.

ACTION: Notice.

SUMMARY: GIPSA is announcing the designation of Aberdeen Grain Inspection, Inc. (Aberdeen); Decatur Grain Inspection, Inc. (Decatur); Hastings Grain Inspection, Inc. (Hastings); John R. McCrea Agency, Inc. (McCrea); Missouri Department of Agriculture (Missouri); and South Carolina Department of Agriculture (South Carolina) to provide official services under the United States Grain Standards Act, as amended (USGSA).

DATES: Effective Date: October 1, 2011.

ADDRESSES: William A. Ashley, Acting Branch Chief, Quality Assurance and Designation Branch, Compliance Division, GIPSA, USDA, STOP 3604, Room 1647-S, 1400 Independence Avenue, SW., Washington, DC 20250-3604.

FOR FURTHER INFORMATION CONTACT: William A. Ashley, 202-720-8262 or William.A.Ashley@usda.gov.

Read Applications: All applications and comments will be available for public inspection at the office above during regular business hours (7 CFR 1.27(c)).

SUPPLEMENTARY INFORMATION: In the March 22, 2011, Federal Register (76 FR 15937), GIPSA requested applications for designation to provide official services in the geographic areas presently serviced by Aberdeen Grain Inspection, Inc. (Aberdeen); Decatur Grain Inspection, Inc. (Decatur); Hastings Grain Inspection, Inc. (Hastings); John R. McCrea Agency, Inc. (McCrea); Missouri Department of Agriculture (Missouri); and South Carolina Department of Agriculture (South Carolina). Applications were due by April 21, 2011.

Aberdeen, Decatur, Hastings, McCrea, Missouri, and South Carolina were the sole applicants for designation to provide official services in these areas. As a result, GIPSA did not ask for additional comments.

GIPSA evaluated all available information regarding the designation criteria in section 7(f)(l) of the USGSA (7 U.S.C. 79(f)) and determined that Aberdeen, Decatur, Hastings, McCrea, Missouri, and South Carolina are qualified to provide official services in the geographic area specified in the March 22, 2011, Federal Register for which they applied. This designation action to provide official services in these specified areas is effective October 1, 2011 and terminates on September 30, 2014

Interested persons may obtain official services by contacting this agency at the following telephone numbers:

Official agency | Headquarters location and telephone | Designation start | Designation end
Aberdeen | Aberdeen, SD, (605) 225-8432; Additional Location: Mitchell, SD | 10/1/2011 | 9/30/2014
Decatur | Decatur, IL, (217) 429-2466 | 10/1/2011 | 9/30/2014
Hastings | Hastings, NE, (402) 462-4254; Additional Location: Grand Island, NE | 10/1/2011 | 9/30/2014
McCrea | Fulton, IL, (815) 589-9955 | 10/1/2011 | 9/30/2014
Missouri | Jefferson City, MO, (573) 751-5515; Additional Locations: Kansas City, Marshall, St. Joseph, New Madrid, and Vandalia, MO | 10/1/2011 | 9/30/2014
South Carolina | Columbia, SC, (803) 734-2200; Additional Location: Vance, SC | 10/1/2011 | 9/30/2014

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for no longer than 3 years unless terminated by the Secretary; however, designations may be renewed according to the criteria and procedures prescribed in section 7(f) of the Act.

Authority: 7 U.S.C. 71-87k.

Alan Christian,
Acting Administrator, Grain Inspection, Packers and Stockyards Administration.

[FR Doc. 2011-24041 Filed 9-19-11; 8:45 am]

BILLING CODE 3410-KD-P